OFFICE OF PERSONNEL MANAGEMENT

Submission for Review: Reemployment of Annuitants

AGENCY: Office of Personnel Management.

ACTION: 60-Day notice and request for comments.

SUMMARY: Office of Personnel Management (OPM) offers the general public and other federal agencies the opportunity to comment on the review of an expiring information collection, “Reemployment of Annuitants—5 CFR 837.103.”

DATES: Comments are encouraged and will be accepted until August 1, 2025.

ADDRESSES: You may submit comments, identified by title and OMB Control Number, by the following method:

• Federal Rulemaking Portal: https://www.regulations.gov. Follow the instructions for submitting comments.

All submissions received must include the OMB Control Number for this collection. The general policy for comments and other submissions from members of the public is to make these submissions available for public viewing at https://www.regulations.gov as they are received without change, including any personal identifiers or contact information.

FOR FURTHER INFORMATION CONTACT: A copy of this information collection request with applicable supporting documentation may be obtained by contacting the Retirement Services Publications Team, U.S. Office of Personnel Management, 1900 E Street NW, Room 3316-L, Washington, DC 20415, Attention: Cyrus S. Benson, or you may obtain this information by emailing RSPublicationsTeam@opm.gov, sending a fax to (202) 606-1995, or calling (202) 936-0401.

SUPPLEMENTARY INFORMATION: As required by the Paperwork Reduction Act of 1995, as amended (44 U.S.C. chapter 35), OPM is soliciting comments for this collection (OMB Control No. 3206-0211). The Office of Personnel Management is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The regulations under 5 CFR 837.103 require agencies to collect certain information from retirees who become employed in Government positions and provide this information to OPM, such as the reemployed retiree's name, date of birth, Social Security number (if applicable), retirement claim number, a description of the kind of appointment, and whether the amount of annuity allocable to the period of reemployment will be withheld from the reemployed retiree's pay. Agencies need to collect timely information regarding the type and amount of annuity the reemployed retiree receives so the agency may determine the correct rate of the reemployed retiree's pay. Agencies provide this information to OPM so OPM may determine whether the reemployed retiree's annuity must be terminated.

Analysis

Agency: Retirement Services, Office of Personnel Management.

Title: Reemployment of Annuitants—5 CFR 837.103.

OMB Number: 3206-0211.

Frequency: On occasion.

Affected Public: Individuals or Households.

Number of Respondents: 3,000.

Estimated Time per Respondent: 5 minutes.

Total Burden Hours: 250.

U.S. Office of Personnel Management.
Alexys Stanley,
Federal Register Liaison.

[FR Doc. 2025-09978 Filed 5-30-25; 8:45 am]

BILLING CODE 6325-38-P